DEPARTMENT OF HOMELAND SECURITY

Coast Guard

33 CFR Part 165

[Docket Number USCG-2018-0082]

RIN 1625-AA00

Safety Zones; Annual Events Requiring Safety Zones in the Captain of the Port Lake Michigan Zone

AGENCY: Coast Guard, DHS.

ACTION: Notice of proposed rulemaking.

SUMMARY: The Coast Guard proposes to amend its safety zones regulation for Annual Events in the Captain of the Port Lake Michigan zone. This amendment updates two permanent safety zones, adds three new permanent safety zones, and removes one old permanent safety zone. These amendments, additions, and removals are necessary to protect spectators, participants, and vessels from the hazards associated with annual maritime events, including sailing races, boat parades, swim events and air shows. We invite your comments on this proposed rulemaking.

DATES: Comments and related material must be received by the Coast Guard on or before May 21, 2018.

ADDRESSES: You may submit comments identified by docket number USCG-2018-0082 using the Federal eRulemaking Portal at http://www.regulations.gov. See the “Public Participation and Request for Comments” portion of the SUPPLEMENTARY INFORMATION section for further instructions on submitting comments.

FOR FURTHER INFORMATION CONTACT: If you have questions about this rule, call or email LT John Ramos, Marine Safety Unit Chicago, U.S. Coast Guard; telephone (630) 986-2155, email D09-DG-MSUChicago-Waterways@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

On May 9, 2016, the Coast Guard published a Final Rule entitled Safety Zones; Annual Events Requiring Safety Zones in the Captain of the Port Lake Michigan Zone in the Federal Register (81 FR 28024). This final rule published after the Coast Guard requested public comments in response to a preceding NPRM in the Federal Register (81 FR 3069, January 20, 2016). No public meeting was requested, and none was held.

The legal basis for this proposed rule is the Coast Guard's authority to establish safety zones: 33 U.S.C. 1231; 33 CFR 1.05-1, 160.5; Department of Homeland Security Delegation No. 0170.1.

The purpose of this rulemaking is to update the safety zones in 33 CFR 165.929 to ensure that they match the times, dates, and dimensions for various marine and triggering events that are expected to be conducted with the Captain of the Port Lake Michigan Zone throughout the year. The purpose of the rulemaking is also to ensure vessels and persons are protected from the specific hazards related to the aforementioned events.

These specific hazards include obstructions to the waterway that may cause marine casualties; collisions among vessels and collisions between vessels and people.

III. Discussion of Proposed Rule

This amendment updates two permanent safety zones, adds three new permanent safety zones, and removes one old permanent safety zone. This proposed rule amends two permanent safety zones found within Table 165.929 in 33 CFR 165.929. These two amendments involve updating the location, size, and/or enforcement times for: one air show in Milwaukee, WI and one sailing race in Chicago, Illinois.

Additionally, this proposed rule adds three new safety zones to Table 165.929 within 33 CFR 165.929 for annually- reoccurring events in the Captain of the Port Lake Michigan Zone. These three zones were added in order to protect the public from the safety hazards previously described. The three additions include two safety zones for boat parades in Milwaukee, WI, and one safety zone for a swim event in Milwaukee, WI. A list of specific changes and additions are available in the attachments within this Docket.

This proposed rule also removes one permanent safety zone found within Table 165.929 in 33 CFR 165.929. The safety zone being removed is the Lubbers Cup Regatta listed as item (b)(2) in Table 165.929. This safety zone is being removed because the Lubbers Cup Regatta marine event was determined to no longer need a safety zone.

The Captain of the Port Lake Michigan has determined that the safety zones in this proposed rule are necessary to ensure the safety of vessels and people during annual marine or triggering events in the Captain of the Port Lake Michigan zone. Although this proposed rule will be effective year- round, the safety zones in this proposed rule will be enforced only immediately before, during, and after events that pose a hazard to the public and only upon notice by the Captain of the Port Lake Michigan.

The Captain of the Port Lake Michigan will notify the public that the zones in this proposal are or will be enforced by all appropriate means to the affected segments of the public, including publication in the Federal Register, as practicable, in accordance with 33 CFR 165.7(a). Such means of notification may also include, but are not limited to, Broadcast Notice to Mariners or Local Notice to Mariners.

All persons and vessels must comply with the instructions of the Coast Guard Captain of the Port Lake Michigan or his or her designated representative. Entry into, transiting, or anchoring within the safety zones is prohibited unless authorized by the Captain of the Port or his or her designated representative. The Captain of the Port or his or her designated representative may be contacted via VHF-FM Channel 16 or at (414) 747-7182.

IV. Regulatory Analyses

We developed this proposed rule after considering numerous statutes and Executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance it is exempt from the requirements of Executive Order 13771.

This regulatory action determination is based on the facts that the safety zones created by this rule will be relatively small and effective during the time necessary to ensure safety of spectator and participants for the listed triggering or marine events. Moreover, the Coast Guard would issue a Broadcast Notice to Mariners via VHF- FM marine channel 16 about the zones, and the rule would allow vessels to seek permission to enter the zones.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zones created this rule may be small entities, for the reasons stated in section IV.A above, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Directive 023-01 and Commandant Instruction M16475.1D, which guides the Coast Guard in complying with the National Environmental Policy Act of 1969 (42 U.S.C. 4321-4370f), and have made a preliminary determination that this action is one of a category of actions that do not individually or cumulatively have a significant effect on the human environment. This proposed rule involves the establishment of safety zones for yearly triggering and marine events on and around Lake Michigan. Normally such actions are categorically excluded from further review under paragraph L60 (a) of Appendix A, Table 1 of DHS Instruction Manual 023-01-001-01, Rev. 01. A preliminary Record of Environmental Consideration supporting this determination is available in the docket where indicated under ADDRESSES. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

Documents mentioned in this NPRM as being available in the docket, and all public comments, will be in our online docket at http://www.regulations.gov and can be viewed by following that website's instructions. Additionally, if you go to the online docket and sign up for email alerts, you will be notified when comments are posted or a final rule is published.

List of Subjects in 33 CFR Part 165

Harbors, Marine safety, Navigation (water), Reporting and recordkeeping requirements, Security measures, Waterways.

For the reasons discussed in the preamble, the Coast Guard proposes to amend 33 CFR part 165 as follows:

PART 165— REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. Revise § 165.929 to read as follows:

§ 165.929 Safety Zones; Annual events requiring safety zones in the Captain of the Port Lake Michigan zone.

(a) Regulations. The following regulations apply to the safety zones listed in Table 165.929 of this section.

(1) The general regulations in 33 CFR 165.23.

(2) All vessels must obtain permission from the Captain of the Port Lake Michigan or his or her designated representative to enter, move within, or exit a safety zone established in this section when the safety zone is enforced. Vessels and persons granted permission to enter one of the safety zones listed in this section must obey all lawful orders or directions of the Captain of the Port Lake Michigan or his or her designated representative. Upon being hailed by the U.S. Coast Guard by siren, radio, flashing light or other means, the operator of a vessel must proceed as directed.

(3) The enforcement dates and times for each of the safety zones listed in Table 165.929 are subject to change, but the duration of enforcement would remain the same or nearly the same total number of hours as stated in the table. In the event of a change, the Captain of the Port Lake Michigan will provide notice to the public by publishing a Notice of Enforcement in the Federal Register, as well as, issuing a Broadcast Notice to Mariners.

(b) Definitions. The following definitions apply to this section:

(1) Designated representative means any Coast Guard commissioned, warrant, or petty officer designated by the Captain of the Port Lake Michigan to monitor a safety zone, permit entry into a safety zone, give legally enforceable orders to persons or vessels within a safety zone, and take other actions authorized by the Captain of the Port Lake Michigan.

(2) Public vessel means a vessel that is owned, chartered, or operated by the United States, or by a State or political subdivision thereof.

(3) Rain date refers to an alternate date and/or time in which the safety zone would be enforced in the event of inclement weather.

(c) Suspension of enforcement. The Captain of the Port Lake Michigan may suspend enforcement of any of these zones earlier than listed in this section. Should the Captain of the Port suspend any of these zones earlier than the listed duration in this section, he or she may make the public aware of this suspension by Broadcast Notice to Mariners and/or on-scene notice by his or her designated representative.

(d) Exemption. Public vessels, as defined in paragraph (b) of this section, are exempt from the requirements in this section.

(e) Waiver. For any vessel, the Captain of the Port Lake Michigan or his or her designated representative may waive any of the requirements of this section upon finding that operational conditions or other circumstances are such that application of this section is unnecessary or impractical for the purposes of safety or security.

Table 165.929
Event | Location ¹ | Enforcement date and time ²
(a) March Safety Zones
(1) St. Patrick's Day Fireworks | Manitowoc, WI. All waters of the Manitowoc River within the arc of a circle with a 250-foot radius from a center point launch position at 44°05.492′ N, 087°39.332′ W | The third Saturday of March; 5:30 p.m. to 7 p.m.
(2) Public Fireworks Display | Green Bay, WI. All waters of the Fox River in the vicinity of the Main Street and Walnut Street Bridge within an area bounded by the following coordinates; 44°31.211′ N, 088°00.833′ W; then southwest along the river bank to 44°30.944′ N, 088°01.159′ W; then southeast to 44°30.890′ N, 088°01.016′ W; then northeast along the river bank to 44°31.074′ N, 088°00.866′ W; then northwest returning to the point of origin | March 15; 11:50 a.m. to 12:30 p.m. Rain date: March 16; 11:50 a.m. to 12:30 p.m.
(b) April Safety Zones
(1) Michigan Aerospace Challenge Sport Rocket Launch | Muskegon, MI. All waters of Muskegon Lake, near the West Michigan Dock and Market Corp facility, within the arc of a circle with a 1,500-yard radius from the rocket launch site located in position 43°14.018′ N, 086°15.585′ W | The last Saturday of April; 8 a.m. to 4 p.m.
(c) May Safety Zones
(1) Tulip Time Festival Fireworks | Holland, MI. All waters of Lake Macatawa, near Kollen Park, within the arc of a circle with a 1000-foot radius from the fireworks launch site in approximate center position 42°47.496′ N, 086°07.348′ W | The first Saturday of May; 9:30 p.m. to 11:30 p.m. Rain date: The first Friday of May; 9:30 p.m. to 11:30 p.m.
(2) Cochrane Cup | Blue Island, IL. All waters of the Calumet Saganashkee Channel from the South Halstead Street Bridge at 41°39.442′ N, 087°38.474′ W; to the Crawford Avenue Bridge at 41°39.078′ N, 087°43.127′ W; and the Little Calumet River from the Ashland Avenue Bridge at 41°39.098′ N, 087°39.626′ W; to the junction of the Calumet Saganashkee Channel at 41°39.373′ N, 087°39.026′ W | The first Saturday of May; 6:30 a.m. to 5 p.m.
(3) Rockets for Schools Rocket Launch | Sheboygan, WI. All waters of Lake Michigan and Sheboygan Harbor, near the Sheboygan South Pier, within the arc of a circle with a 1,500-yard radius from the rocket launch site located with its center in position 43°44.914′ N, 087°41.869′ W | The first Saturday of May; 8 a.m. to 5 p.m.
(4) Celebrate De Pere Fireworks | De Pere, WI. All waters of the Fox River, near Voyageur Park, within the arc of a circle with a 500 foot radius from the fireworks launch site located in position 44°27.167′ N, 088°03.833′ W | The Saturday or Sunday before Memorial Day; 8:30 p.m. to 10 p.m.
(d) June Safety Zones
(1) International Bayfest | Green Bay, WI. All waters of the Fox River, near the Western Lime Company 1.13 miles above the head of the Fox River, within the arc of a circle with a 1,000-foot radius from the fireworks launch site located in position 44°31.408′ N, 088°00.710′ W | The second Friday of June; 9 p.m. to 11 p.m.
(2) Harborfest Music and Family Festival | Racine, WI. All waters of Lake Michigan and Racine Harbor, near the Racine Launch Basin Entrance Light, within the arc of a circle with a 200-foot radius from the fireworks launch site located in position 42°43.722′ N, 087°46.673′ W | Friday and Saturday of the third complete weekend of June; 9 p.m. to 11 p.m. each day.
(3) Spring Lake Heritage Festival Fireworks | Spring Lake, MI. All waters of the Grand River within the arc of a circle with a 700-foot radius from a barge in center position 43°04.375′ N, 086°12.401′ W | The third Saturday of June; 9 p.m. to 11 p.m.
(4) Elberta Solstice Festival | Elberta, MI. All waters of Betsie Lake within the arc of a circle with a 500-foot radius from the fireworks launch site located in approximate center position 44°37.607′ N, 086°13.977′ W | The last Saturday of June; 9 p.m. to 11 p.m.
(5) World War II Beach Invasion Re-enactment | St. Joseph, MI. All waters of Lake Michigan in the vicinity of Tiscornia Park in St. Joseph, MI beginning at 42°06.918′ N, 086°29.421′ W; then west/northwest along the north breakwater to 42°06.980′ N, 086°29.682′ W; then northwest 100 yards to 42°07.018′ N, 086°29.728′ W; then northeast 2,243 yards to 42°07.831′ N, 086°28.721′ W; then southeast to the shoreline at 42°07.646′ N, 086°28.457′ W; then southwest along the shoreline to the point of origin | The last Saturday of June; 8 a.m. to 2 p.m.
(6) Ephraim Fireworks | Ephraim, WI. All waters of Eagle Harbor and Lake Michigan within the arc of a circle with a 750-foot radius from the fireworks launch site located on a barge in position 45°09.304′ N, 087°10.844′ W | The third Saturday of June; 9 p.m. to 11 p.m.
(7) Thunder on the Fox | Elgin, IL. All waters of the Fox River from the Kimball Street bridge, located at approximate position 42°02.499′ N, 088°17.367′ W, then 1,250 yards north to a line crossing the river perpendicularly running through position 42°03.101′ N, 088°17.461′ W | Friday, Saturday, and Sunday of the third weekend in June; 10 a.m. to 7 p.m. each day.
(8) Olde Ellison Bay Days Fireworks | Ellison Bay, WI. All waters of Green Bay, in the vicinity of Ellison Bay Wisconsin, within the arc of a circle with a 400-foot radius from the fireworks launch site located on a barge in approximate center position 45°15.595′ N, 087°05.043′ W | The fourth Saturday of June; 9 p.m. to 10 p.m.
(9) Sheboygan Harborfest Fireworks | Sheboygan, WI. All waters of Lake Michigan and Sheboygan Harbor within the arc of a circle with a 1,000-foot radius from the fireworks launch site located in position 43°44.914′ N, 087°41.897′ W | June 15; 8:45 p.m. to 10:45 p.m.
(e) July Safety Zones
(1) Town of Porter Fireworks Display | Porter, IN. All waters of Lake Michigan within the arc of a circle with a 1,000-foot radius from the fireworks launch site located in center position 41°39.927′ N, 087°03.933′ W | The first Saturday of July; 8:45 p.m. to 9:30 p.m.
(2) City of Menasha 4th of July Fireworks | Menasha, WI. All waters of Lake Winnebago and the Fox River within the arc of a circle with an 800-foot radius from the fireworks launch site located in center position 44°12.017′ N, 088°25.904′ W | July 4; 9 p.m. to 10:30 p.m.
(3) Pentwater July Third Fireworks | Pentwater, MI. All waters of Lake Michigan and the Pentwater Channel within the arc of a circle with a 1,000-foot radius from the fireworks launch site located in position 43°46.942′ N, 086°26.625′ W | July 3; 9 p.m. to 11 p.m. Rain date: July 4; 9 p.m. to 11 p.m.
(4) Taste of Chicago Fireworks | Chicago, IL. All waters of Monroe Harbor and Lake Michigan bounded by a line drawn from 41°53.380′ N, 087°35.978′ W; then southeast to 41°53.247′ N, 087°35.434′ W; then south to 41°52.809′ N, 087°35.434′ W; then southwest to 41°52.453′ N, 087°36.611′ W; then north to 41°53.247′ N, 087°36.573′ W; then northeast returning to the point of origin | July 3; 9 p.m. to 11 p.m. Rain date: July 4; 9 p.m. to 11 p.m.
(5) St. Joseph Fourth of July Fireworks | St. Joseph, MI. All waters of Lake Michigan and the St. Joseph River within the arc of a circle with a 1,000-foot radius from the fireworks launch site in position 42°06.867′ N, 086°29.463′ W | July 4; 9 p.m. to 11 p.m. Rain date: July 5; 9 p.m. to 11 p.m.
(6) U.S. Bank Fireworks | Milwaukee, WI. All waters and adjacent shoreline of Milwaukee Harbor, in the vicinity of Veteran's park, within the arc of a circle with a 1,200-foot radius from the center of the fireworks launch site which is located on a barge in approximate position 43°02.362′ N, 087°53.485′ W | July 3; 8:30 p.m. to 11 p.m. Rain date: July 4; 8:30 p.m. to 11 p.m.
(7) Manistee Independence Day Fireworks | Manistee, MI. All waters of Lake Michigan, in the vicinity of the First Street Beach, within the arc of a circle with a 1,000-foot radius from the fireworks launch site located in position 44°14.854′ N, 086°20.757′ W | July 3; 9 p.m. to 11 p.m. Rain date: July 4; 9 p.m. to 11 p.m.
(8) Frankfort Independence Day Fireworks | Frankfort, MI. All waters of Lake Michigan and Frankfort Harbor, bounded by a line drawn from 44°38.100′ N, 086°14.826′ W; then south to 44°37.613′ N, 086°14.802′ W; then west to 44°37.613′ N, 086°15.263′ W; then north to 44°38.094′ N, 086°15.263′ W; then east returning to the point of origin | July 4; 9 p.m. to 11 p.m. Rain date: July 5; 9 p.m. to 11 p.m.
(9) Freedom Festival Fireworks | Ludington, MI. All waters of Lake Michigan and Ludington Harbor within the arc of a circle with a 800-foot radius from the fireworks launch site located in position 43°57.171′ N, 086°27.718′ W | July 4; 9 p.m. to 11 p.m. Rain date: July 5; 9 p.m. to 11 p.m.
(10) White Lake Independence Day Fireworks | Montague, MI. All waters of White Lake within the arc of a circle with an 800-foot radius from a center position at 43°24.621′ N, 086°21.463′ W | July 4; 9:30 p.m. to 11:30 p.m. Rain date: July 5; 9:30 p.m. to 11:30 p.m.
(11) Muskegon Summer Celebration July Fourth Fireworks | Muskegon, MI. All waters of Muskegon Lake, in the vicinity of Hartshorn Municipal Marina, within the arc of a circle with a 700-foot radius from a center position at 43°14.039′ N, 086°15.793′ W | July 4; 9 p.m. to 11 p.m. Rain date: July 5; 9 p.m. to 11 p.m.
(12) Grand Haven Jaycees Annual Fourth of July Fireworks | Grand Haven, MI. All waters of the Grand River within the arc of a circle with a 800-foot radius from the fireworks launch site located on the west bank of the Grand River in position 43°3.908′ N, 086°14.240′ W | July 4; 9 p.m. to 11:30 p.m. Rain date: July 5; 9 p.m. to 11:30 p.m.
(13) Celebration Freedom Fireworks | Holland, MI. All waters of Lake Macatawa in the vicinity of Kollen Park within the arc of a circle with a 2,000-foot radius of a center launch position at 42°47.440′ N, 086°07.621′ W | July 4; 10 p.m. to 11:59 p.m. Rain date: July 4; 10 p.m. to 11:59 p.m.
(14) Van Andel Fireworks Show | Holland, MI. All waters of Lake Michigan and the Holland Channel within the arc of a circle with a 1,000-foot radius from the fireworks launch site located in approximate position 42°46.351′ N, 086°12.710′ W | July 4; 9 p.m. to 11 p.m. Rain date: July 3; 9 p.m. to 11 p.m.
(15) Saugatuck Independence Day Fireworks | Saugatuck, MI. All waters of Kalamazoo Lake within the arc of a circle with a 500-foot radius from the fireworks launch site in center position 42°39.074′ N, 086°12.285′ W | July 4; 9 p.m. to 11 p.m. Rain date: July 5; 9 p.m. to 11 p.m.
(16) South Haven Fourth of July Fireworks | South Haven, MI. All waters of Lake Michigan and the Black River within the arc of a circle with a 1,000-foot radius from the fireworks launch site located in center position 42°24.125′ N, 086°17.179′ W | July 3; 9:30 p.m. to 11:30 p.m.
(17) Town of Dune Acres Independence Day Fireworks | Dune Acres, IN. All Waters of Lake Michigan within the arc of a circle with a 700-foot radius from the fireworks launch site located in position 41°39.303′ N, 087°05.239′ W | The first Saturday of July; 8:45 p.m. to 10:30 p.m.
(18) Gary Fourth of July Fireworks | Gary, IN. All waters of Lake Michigan, approximately 2.5 miles east of Gary Harbor, within the arc of a circle with a 500-foot radius from the fireworks launch site located in position 41°37.322′ N, 087°14.509′ W | July 4; 9 p.m. to 11 p.m. Rain date: July 5; 9 p.m. to 11 p.m.
(19) Joliet Independence Day Celebration Fireworks | Joliet, IL. All waters of the Des Plains River, at mile 288, within the arc of a circle with a 500-foot radius from the fireworks launch site located in position 41°31.522′ N, 088°05.244′ W | July 3; 9 p.m. to 11 p.m. Rain date: July 4; 9 p.m. to 11 p.m.
(20) Glencoe Fourth of July Celebration Fireworks | Glencoe, IL. All waters of Lake Michigan in the vicinity of Lake Front Park, within the arc of a circle with a 1,000-foot radius from a barge in position 42°08.404′ N, 087°44.930′ W | July 4; 9 p.m. to 11 p.m. Rain date: July 5; 9 p.m. to 11 p.m.
(21) Lakeshore Country Club Independence Day Fireworks | Glencoe, IL. All waters of Lake Michigan within the arc of a circle with a 600-foot radius from a center point fireworks launch site in approximate position 42°09.130′ N, 087°45.530′ W | July 4; 9 p.m. to 11 p.m. Rain date: July 5; 9 p.m. to 11 p.m.
(22) Shore Acres Country Club Independence Day Fireworks | Lake Bluff, IL. All waters of Lake Michigan within the arc of a circle with a 600-foot radius from approximate position 42°17.847′ N, 087°49.837′ W | July 4; 9 p.m. to 11 p.m. Rain date: July 5; 9 p.m. to 11 p.m.
(23) Kenosha Independence Day Fireworks | Kenosha, WI. All waters of Lake Michigan and Kenosha Harbor within the arc of a circle with a 1,000-foot radius from the fireworks launch site located in position 42°35.283′ N, 087°48.450′ W | July 4; 9 p.m. to 11 p.m. Rain date: July 5; 9 p.m. to 11 p.m.
(24) Fourthfest of Greater Racine Fireworks | Racine, WI. All waters of Racine Harbor and Lake Michigan within the arc of a circle with a 900-foot radius from a center point position at 42°44.259′ N, 087°46.635′ W | July 4; 9 p.m. to 11 p.m. Rain date: July 5; 9 p.m. to 11 p.m.
(25) Sheboygan Fourth of July Celebration Fireworks | Sheboygan, WI. All waters of Lake Michigan and Sheboygan Harbor, in the vicinity of the south pier, within the arc of a circle with a 1,000-foot radius from the fireworks launch site located in position 43°44.917′ N, 087°41.850′ W | July 4; 9 p.m. to 11 p.m. Rain date: July 5; 9 p.m. to 11 p.m.
(26) Manitowoc Independence Day Fireworks | Manitowoc, WI. All waters of Lake Michigan and Manitowoc Harbor, in the vicinity of south breakwater, within the arc of a circle with a 1,000-foot radius from the fireworks launch site located in position 44°05.395′ N, 087°38.751′ W | July 4; 9 p.m. to 11 p.m. Rain date: July 5; 9 p.m. to 11 p.m.
(27) Sturgeon Bay Independence Day Fireworks | Sturgeon Bay, WI. All waters of Sturgeon Bay, in the vicinity of Sunset Park, within the arc of a circle with a 1,000-foot radius from the fireworks launch site located on a barge in position 44°50.562′ N, 087°23.411′ W | July 4; 9 p.m. to 11 p.m. Rain date: July 5; 9 p.m. to 11 p.m.
(28) Fish Creek Independence | Fish Creek, WI. All waters of Green Bay, in the vicinity of Fish Creek Harbor, within the arc of a circle with a 1,000-foot radius from the fireworks launch site located on a barge in position 45°07.867′ N, 087°14.617′ W | July 2; 9 p.m. to 11 p.m. Rain date: July 2; 9 p.m. to 11 p.m.
(29) Fire over the Fox Fireworks | Green Bay, WI. All waters of the Fox River including the mouth of the East River from the Canadian National Railroad bridge in approximate position 44°31.467′ N, 088°00.633′ W then southwest to the Main St. Bridge in approximate position 44°31.102′ N, 088°00.963′ W | July 4; 9 p.m. to 11 p.m. Rain date: July 5; 9 p.m. to 11 p.m.
(30) Celebrate Americafest Ski Show | Green Bay, WI. All waters of the Fox River, including the mouth of the East River from the West Walnut Street Bridge in approximate position 44°30.912′ N, 088°01.100′ W, then northeast to an imaginary line running perpendicularly across the river through coordinate 44°31.337′ N, 088°00.640′ W | July 4 from 2:30 p.m. to 4:30 p.m. Rain date: July 5; 2:30 p.m. to 4:30 p.m.
(31) Marinette Fourth of July Celebration Fireworks | Marinette, WI. All waters of the Menominee River, in the vicinity of Stephenson Island, within the arc of a circle with a 900 foot radius from the fireworks launch site in center position 45°6.232′ N, 087°37.757′ W | July 4; 9 p.m. to 11 p.m. Rain date: July 5; 9 p.m. to 11 p.m.
(32) Evanston Fourth of July Fireworks | Evanston, IL. All waters of Lake Michigan, in the vicinity of Centennial Park Beach, within the arc of a circle with a 500-foot radius from the fireworks launch site located in position 42°02.933′ N, 087°40.350′ W | July 4; 9 p.m. to 11 p.m. Rain date: July 5; 9 p.m. to 11 p.m.
(33) Gary Air and Water Show | Gary, IN. All waters of Lake Michigan bounded by a line drawn from 41°37.217′ N, 087°16.763′ W; then east along the shoreline to 41°37.413′ N, 087°13.822′ W; then north to 41°38.017′ N, 087°13.877′ W; then southwest to 41°37.805′ N, 087°16.767′ W; then south returning to the point of origin | July 6 thru 10; 8:30 a.m. to 5 p.m.
(34) Annual Trout Festival Fireworks | Kewaunee, WI. All waters of Kewaunee Harbor and Lake Michigan within the arc of a circle with a 1,000-foot radius from the fireworks launch site located in position 44°27.493′ N, 087°29.750′ W | Friday of the second complete weekend of July; 9 p.m. to 11 p.m.
(35) Michigan City Summerfest Fireworks | Michigan City, IN. All waters of Michigan City Harbor and Lake Michigan within the arc of a circle with a 1,000-foot radius from the fireworks launch site located in position 41°43.700′ N, 086°54.617′ W | Sunday of the second complete weekend of July; 8:30 p.m. to 10:30 p.m.
(36) Port Washington Fish Day Fireworks | Port Washington, WI. All waters of Port Washington Harbor and Lake Michigan, in the vicinity of the WE Energies coal dock, within the arc of a circle with a 1,000-foot radius from the fireworks launch site located in position 43°23.117′ N, 087°51.900′ W | The third Saturday of July; 9 p.m. to 11 p.m.
(37) Bay View Lions Club South Shore Frolics Fireworks | Milwaukee, WI. All waters of Lake Michigan and Milwaukee Harbor, in the vicinity of South Shore Yacht Club, within the arc of a circle with a 900-foot radius from the fireworks launch site in position 42°59.658′ N, 087°52.808′ W | Friday, Saturday, and Sunday of the second or third weekend of July; 9 p.m. to 11 p.m. each day.
(38) Venetian Festival Fireworks | St. Joseph, MI. All waters of Lake Michigan and the St. Joseph River, near the east end of the south pier, within the arc of a circle with a 1,000-foot radius from the fireworks launch site located in position 42°06.800′ N, 086°29.250′ W | Saturday of the third complete weekend of July; 9 p.m. to 11 p.m.
(39) Joliet Waterway Daze Fireworks | Joliet, IL. All waters of the Des Plaines River, at mile 287.5, within the arc of a circle with a 300-foot radius from the fireworks launch site located in position 41°31.250′ N, 088°05.283′ W | Friday and Saturday of the third complete weekend of July; 9 p.m. to 11 p.m. each day.
(40) EAA Airventure | Oshkosh, WI. All waters of Lake Winnebago in the vicinity of Willow Harbor within an area bounded by a line connecting the following coordinates: Beginning at 43°56.822′ N, 088°29.904′ W; then north approximately 5,100 feet to 43°57.653′ N, 088°29.904′ W, then east approximately 2,300 feet to 43°57.653′ N, 088°29.374′ W; then south to shore at 43°56.933′ N, 088°29.374′ W; then southwest along the shoreline to 43°56.822′ N, 088°29.564′ W; then west returning to the point of origin | The last complete week of July, beginning Monday and ending Sunday; 8 a.m. to 8 p.m. each day.
(41) Saugatuck Venetian Night Fireworks | Saugatuck, MI. All waters of Kalamazoo Lake within the arc of a circle with a 500-foot radius from the fireworks launch site located on a barge in position 42°39.073′ N, 086°12.285′ W | The last Saturday of July; 9 p.m. to 11 p.m.
(42) Roma Lodge Italian Festival Fireworks | Racine, WI. All waters of Lake Michigan and Racine Harbor within the arc of a circle with a 1,000-foot radius from the fireworks launch site located in position 42°44.067′ N, 087°46.333′ W | Friday and Saturday of the last complete weekend of July; 9 p.m. to 11 p.m.
(43) Chicago Venetian Night Fireworks | Chicago, IL. All waters of Monroe Harbor and all waters of Lake Michigan bounded by a line drawn from 41°53.050′ N, 087°36.600′ W; then east to 41°53.050′ N, 087°36.350′ W; then south to 41°52.450′ N, 087°36.350′ W; then west to 41°52.450′ N, 087°36.617′ W; then north returning to the point of origin | Saturday of the last weekend of July; 9 p.m. to 11 p.m.
(44) New Buffalo Business Association Fireworks | New Buffalo, MI. All waters of Lake Michigan and New Buffalo Harbor within the arc of a circle with a 800-foot radius from the fireworks launch site located in position 41°48.153′ N, 086°44.823′ W | July 3rd or July 5th; 9:30 p.m. to 11:15 p.m.
(45) Start of the Chicago to Mackinac Race | Chicago, IL. All waters of Lake Michigan in the vicinity of the Chicago Harbor Entrance at Chicago IL, within a rectangle that is bounded by a line drawn from 41°53.251′ N, 087°35.393′ W; then east to 41°53.251′ N, 087°34.352′ W; then south to 41°52.459′ N, 087°34.364′ W; then west to 41°52.459′ N, 087°35.393′ W; then north back to the point of origin | July 22; 2 p.m. to 4:30 p.m. and July 23; 9 a.m. to 3 p.m.
(46) Fireworks at Pier Wisconsin | Milwaukee, WI. All waters of Milwaukee Harbor, including Lakeshore Inlet and the marina at Pier Wisconsin, within the arc of a circle with a 300-foot radius from the fireworks launch site on Pier Wisconsin located in approximate position 43°02.178′ N, 087°53.625′ W | Dates and times will be issued by Notice of Enforcement and Broadcast Notice to Mariners.
(47) Gills Rock Fireworks | Gills Rock, WI. All waters of Green Bay near Gills Rock WI within a 1,000-foot radius of the launch vessel in approximate position at 45°17.470′ N, 087°01.728′ W | July 4; 8:30 p.m. to 10:30 p.m.
(48) City of Menominee 4th of July Celebration Fireworks | Menominee, MI. All Waters of Green Bay, in the vicinity of Menominee Marina, within the arc of a circle with a 900-foot radius from a center position at 45°06.417′ N, 087°36.024′ W | July 4; 9 p.m. to 11 p.m.
(49) Miesfeld's Lakeshore Weekend Fireworks | Sheboygan, WI. All waters of Lake Michigan and Sheboygan Harbor within an 800-foot radius from the fireworks launch site located at the south pier in approximate position 43°44.917′ N, 087°41.967′ W | July 29; 9 p.m. to 10:30 p.m. Rain date: July 30; 9 p.m. to 10:30 p.m.
(50) Marinette Logging and Heritage Festival Fireworks | Marinette, WI. All waters of the Menominee River, in the vicinity of Stephenson Island, within the arc of a circle with a 900-foot radius from the fireworks launch site in position 45°06.232′ N, 087°37.757′ W | July 13; 9 p.m. to 11 p.m.
(51) Summer in the City Water Ski Show | Green Bay, WI. All waters of the Fox River in Green Bay, WI from the Main Street Bridge in position 44°31.089′ N, 088°00.904′ W then southwest to the Walnut Street Bridge in position 44°30.900′ N, 088°01.091′ W | Each Wednesday of July through August; 6 p.m. to 6:30 p.m. and 7 p.m. to 7:30 p.m.
(52) Holiday Celebration Fireworks | Kewaunee, WI. All waters of Kewaunee Harbor and Lake Michigan within the arc of a circle with a 1,000-foot radius from the fireworks launch site located in position 44°27.481′ N, 087°29.735′ W | July 4; 8:30 p.m. to 10:30 p.m. Rain date: July 5; 8:30 p.m. to 10:30 p.m.
(53) Independence Day Fireworks | Wilmette, IL. All waters of Lake Michigan and the North Shore Channel within the arc of a circle with a 1,000-foot radius from the fireworks launch site located at approximate center position 42°04.674′ N, 087°40.856′ W | July 3; 8:30 p.m. to 10:15 p.m.
(54) Neenah Fireworks | Neenah, WI. All waters of Lake Winnebago within a 700 foot radius of an approximate launch position at 44°11.126′ N, 088°26.941′ W | July 3 or 4; 8:45 p.m. to 10:30 p.m.
(55) Milwaukee Air and Water Show | Milwaukee, WI. All waters of Lake Michigan in the vicinity of McKinley Park and Bradford Beach located within an area that is approximately 5,000 yards by 1,500 yards. The area will be bounded by the points beginning at 43°02.455′ N, 087°52.880′ W; then southeast to 43°02.230′ N, 087°52.061′ W; then northeast to 43°04.451′ N, 087°50.503′ W; then northwest to 43°04.738′ N, 087°51.445′ W; then southwest to 43°02.848′ N, 087°52.772′ W; then returning to the point of origin | Third weekend in July 8 a.m. to 5 p.m.
(f) August Safety Zones
(1) Super Boat Grand Prix | Michigan City, IN. All waters of Lake Michigan bounded by a rectangle drawn from 41°43.655′ N, 086°54.550′ W; then northeast to 41°44.808′ N, 086°51.293′ W, then northwest to 41°45.195′ N, 086°51.757′ W; then southwest to 41°44.063′ N, 086°54.873′ W; then southeast returning to the point of origin | The first Sunday of August; 9 a.m. to 4 p.m. Rain date: The first Saturday of August; 9 a.m. to 4 p.m.
(2) Port Washington Maritime Heritage Festival Fireworks | Port Washington, WI. All waters of Port Washington Harbor and Lake Michigan, in the vicinity of the WE Energies coal dock, within the arc of a circle with a 1,000-foot radius from the fireworks launch site located in position 43°23.117′ N, 087°51.900′ W | Saturday of the last complete weekend of July or the second weekend of August; 9 p.m. to 11 p.m.
(3) Grand Haven Coast Guard Festival Fireworks | Grand Haven, MI. All waters of the Grand River within the arc of a circle with an 800-foot radius from the fireworks launch site located on the west bank of the Grand River in position 43°03.907′ N, 086°14.247′ W | First weekend of August; 9 p.m. to 11 p.m.
(4) Sturgeon Bay Yacht Club Evening on the Bay Fireworks | Sturgeon Bay, WI. All waters of Sturgeon Bay within the arc of a circle with a 500-foot radius from the fireworks launch site located on a barge in approximate position 44°49.297′ N, 087°21.447′ W | The first Saturday of August; 8:30 p.m. to 10:30 p.m.
(5) Hammond Marina Venetian Night Fireworks | Hammond, IN. All waters of Hammond Marina and Lake Michigan within the arc of a circle with a 1,000-foot radius from the fireworks launch site located in position 41°41.883′ N, 087°30.717′ W | The first Saturday of August; 9 p.m. to 11 p.m.
(6) North Point Marina Venetian Festival Fireworks | Winthrop Harbor, IL. All waters of Lake Michigan within the arc of a circle with a 1,000-foot radius from the fireworks launch site located in position 42°28.917′ N, 087°47.933′ W | The second Saturday of August; 9 p.m. to 11 p.m.
(7) Waterfront Festival Fireworks | Menominee, MI. All Waters of Green Bay, in the vicinity of Menominee Marina, within the arc of a circle with a 1,000-foot radius from a center position at 45°06.447′ N, 087°35.991′ W | August 3; 9 p.m. to 11 p.m.
(8) Ottawa Riverfest Fireworks | Ottawa, IL. All waters of the Illinois River, at mile 239.7, within the arc of a circle with a 300-foot radius from the fireworks launch site located in position 41°20.483′ N, 088°51.333′ W | The first Sunday of August; 9 p.m. to 11 p.m.
(9) Chicago Air and Water Show | Chicago, IL. All waters and adjacent shoreline of Lake Michigan and Chicago Harbor bounded by a line drawn from 41°55.900′ N at the shoreline, then east to 41°55.900′ N, 087°37.200′ W, then southeast to 41°54.000′ N, 087°36.000′ W, then southwestward to the northeast corner of the Jardine Water Filtration Plant, then due west to the shore | August 18 thru 21; 8:30 a.m. to 5 p.m.
(10) Pentwater Homecoming Fireworks | Pentwater, MI. All waters of Lake Michigan and the Pentwater Channel within the arc of a circle with a 1,000-foot radius from the fireworks launch site located in position 43°46.942′ N, 086°26.633′ W | Saturday following the second Thursday of August; 9 p.m. to 11 p.m.
(11) Chicago Match Cup Race | Chicago, IL. All waters of Chicago Harbor in the vicinity of Navy Pier and the Chicago Harbor break wall bounded by coordinates beginning at 41°53.617′ N, 087°35.433′ W; then south to 41°53.400′ N, 087°35.433′ W; then west to 41°53.400′ N, 087°35.917′ W; then north to 41°53.617′ N, 087°35.917′ W; then back to point of origin | August 6 thru 11; 8 a.m. to 8 p.m.
(12) New Buffalo Ship and Shore Fireworks | New Buffalo, MI. All waters of Lake Michigan and New Buffalo Harbor within the arc of a circle with a 800-foot radius from the fireworks launch site located in position 41°48.150′ N, 086°44.817′ W | August 10; 9:30 p.m. to 11:15 p.m.
(13) Operations at Marinette Marine | Marinette, WI. All waters of the Menominee River in the vicinity of Marinette Marine Corporation, from the Bridge Street Bridge located in position 45°06.188′ N, 087°37.583′ W, then approximately .95 NM south east to a line crossing the river perpendicularly passing through positions 45°05.881′ N, 087°36.281′ W and 45°05.725′ N, 087°36.385′ W | This zone will be enforced in the case of hazardous cargo operations or vessel launch by issue of Notice of Enforcement and Marine Broadcast.
(14) Fireworks Display | Winnetka, IL. All waters of Lake Michigan within the arc of a circle with a 900-foot radius from a center point barge located in approximate position 42°06.402′ N, 087°43.115′ W | Third Saturday of August; 9:15 p.m. to 10:30 p.m.
(15) Algoma Shanty Days Fireworks | Algoma, WI. All waters of Lake Michigan and Algoma Harbor within the arc of a circle with a 1,000-foot radius from the fireworks launch site located in a center position of 44°36.400′ N, 087°25.900′ W | Sunday of the second complete weekend of August; 9 p.m. to 11 p.m.
(16) Venetian Night Parade | Chicago, IL. All waters of Lake Michigan, in the vicinity of Navy Pier, bounded by coordinates beginning at 41°53.771′ N, 087°35.815′ W; and then south to 41°53.367′ N, 087°35.814′ W; then west to 41°53.363′ N, 087°36.587′ W; then north to 41°53.770′ N, 087°36.601′ W; then east back to the point of origin | Last Saturday of August; 6:30 p.m. to 9:30 p.m.
(17) Milwaukee Venetian Boat Parade | Milwaukee, WI. All waters of Lake Michigan within Milwaukee Bay from McKinley Marina at 43°02.066′ N, 087°52.966′ W; then along Veterans Park shoreline to 43°02.483′ N, 087°53.683; then to the Milwaukee Art Museum at 043°02.366′ N | Every third Saturday of August; 8 p.m. to 11 p.m.
(18) Milwaukee Open Water Swim | Milwaukee, WI. All waters on Lake Michigan in the Milwaukee River, between the Milwaukee River and Kinnickinnic River convergence, starting at 43°1′31.908″ N, 87°54′10.900″ W, going north under the I-794 overpass to 43°2′9.2184″ N, 87°54′35.8128″ W, and returning to the starting point | The second Saturday of August; 6 a.m. to 9 a.m.
(g) September Safety Zones
(1) ISAF Nations Cup Grand Final Fireworks Display | Sheboygan, WI. All waters of Lake Michigan and Sheboygan Harbor, in the vicinity of the south pier in Sheboygan Wisconsin, within a 500 foot radius from the fireworks launch site located on land in position 43°44.917′ N, 087°41.850′ W | September 13; 7:45 p.m. to 8:45 p.m.
(2) Sister Bay Marinafest Ski Show | Sister Bay, WI. All waters of Sister Bay within an 800-foot radius of position 45°11.585′ N, 087°07.392′ W | September 3; 1 p.m. to 3:15 p.m.
(3) Sister Bay Marinafest Fireworks | Sister Bay, WI. All waters of Sister Bay within an 800-foot radius of the launch vessel in approximate position 45°11.585′ N, 087°07.392′ W | September 3 and 4; 8:15 p.m. to 10 p.m.
(4) Harborfest Boat Parade | Milwaukee, WI. All waters of Lake Michigan within Milwaukee River and Kinnickinnic River including the Municipal Mooring Basin beginning at Milwaukee River at 43°3.284′ N, 087°54.2673′ W, then south on the Milwaukee River to 43°1.524′ N, 087°54.173′ W, then south on the Kinnickinnic River and ending in the Municipal Mooring Basin at 43°0.8291′ N, 087°54.0751′ W | The second Saturday of September; 10 a.m. to 2 p.m.
(h) October Safety Zones
(1) Corn Festival Fireworks | Morris, IL. All waters of the Illinois River within a 560 foot radius from approximate launch position at 41°21.173′ N, 088°25.101′ W | The first Saturday of October; 8:15 p.m. to 9:15 p.m.
(i) November Safety Zones
(1) Downtown Milwaukee Fireworks | Milwaukee, WI. All waters of the Milwaukee River in the vicinity of the State Street Bridge within the arc of a circle with a 300-foot radius from a center point fireworks launch site in approximate position 43°02.559′ N, 087°54.749′ W | The third Thursday of November; 6 p.m. to 8 p.m.
(2) Magnificent Mile Fireworks Display | Chicago, IL. All waters and adjacent shoreline of the Chicago River bounded by the arc of the circle with a 210-foot radius from the fireworks launch site with its center in approximate position of 41°53.350′ N, 087°37.400′ W | The third weekend in November; sunset to termination of display.
(j) December Safety Zones
(1) New Years Eve Fireworks | Chicago, IL. All waters of Monroe Harbor and Lake Michigan within the arc of a circle with a 1,000-foot radius from the fireworks launch site located on a barge in approximate position 41°52.683′ N, 087°36.617′ W | December 31; 11 p.m. to January 1 at 1 a.m.
¹ All coordinates listed in Table 165.929 reference Datum NAD 1983.
² As noted in paragraph (a)(3) of this section, the enforcement dates and times for each of the listed safety zones are subject to change.

Dated: March 22, 2018.
Thomas J. Stuhlreyer,
Captain, U.S. Coast Guard, Captain of the Port Lake Michigan.

[FR Doc. 2018-08228 Filed 4-18-18; 8:45 am]

BILLING CODE 9110-04-P